DEPARTMENT OF AGRICULTURE

Animal and Plant Health Inspection Service

7 CFR Part 301

[Docket No. APHIS-2006-0149]

Karnal Bunt; Regulated Areas

AGENCY: Animal and Plant Health Inspection Service, USDA.

ACTION: Affirmation of interim rule as final rule.

SUMMARY: We are adopting as a final rule, without change, an interim rule that amended the Karnal bunt regulations to remove certain areas or fields in Maricopa and Pinal Counties, AZ, and Archer, Baylor, Knox, McCulloch, San Saba, Throckmorton, and Young Counties, TX, from the list of regulated areas based on our determination that those fields or areas meet our criteria for release from regulation. The interim rule was necessary to relieve restrictions that are no longer necessary.

DATES: Effective on March 9, 2007, we are adopting as a final rule the interim rule published at 71 FR 67432-67436 on November 22, 2006.

FOR FURTHER INFORMATION CONTACT: Dr. Vedpal S. Malik, National Karnal Bunt Coordinator, Pest Detection and Management Programs, PPQ, APHIS, 4700 River Road, Unit 134, Riverdale, MD 20737-1231; (301) 734-3769.

SUPPLEMENTARY INFORMATION:

Background

In an interim rule ¹ effective November 16, 2006, and published in the Federal Register on November 22, 2007 (71 FR 67432-67436, Docket No. APHIS-2006-0149), we amended the karnal bunt regulations contained in Subpart—Karnal Bunt (7 CFR 301.78 through 301.78-10) by removing certain areas or fields in Maricopa and Pinal Counties, AZ, and in Archer, Baylor, Knox, McCulloch, San Saba, Throckmorton and Young Counties, TX, from the list of regulated areas in § 301.89-3(g). That action was based on our determination that these fields or areas are eligible for release from regulation under the criteria in § 301.89-3(f). The interim rule relieved restrictions on fields within those areas that were no longer necessary. As a result of the interim rule, there are no longer any regulated areas in Archer, McCulloch, and San Saba Counties, TX, and the size of the regulated areas in each of the four remaining regulated Texas counties and in two of the three regulated Arizona counties has been reduced.

¹ To view the interim rule and the comments we received, go to http://www.regulations.gov, click on the “Advanced Search” tab, and select “Docket Search.” In the Docket ID field, enter APHIS-2006-0149, then click “Submit.” Clicking on the Docket ID link in the search results page will produce a list of all documents in the docket.

Comments on the interim rule were required to be received on or before January 22, 2007. We received two comments by that date. The comments were from a State agricultural agency and a wheat industry group. Both commenters supported the interim rule. Therefore, for the reasons given in the interim rule, we are adopting the interim rule as a final rule.

Note: In the preamble of the interim rule, the text of the economic analysis mistakenly stated that in 2004, Pinal County, AZ, was the largest contributor to the total U.S. wheat market of the deregulated counties. Throckmorton County, TX, was the largest contributor of the listed counties for that year. The information given in Table 2 for percentage shares of U.S. wheat production was correct.

This action also affirms the information contained in the interim rule concerning Executive Order 12866 and the Regulatory Flexibility Act, Executive Orders 12372 and 12988, and the Paperwork Reduction Act.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 71 FR 67432-67436 on November 22, 2006.

Done in Washington, DC, this 5th day of March 2007.
Kevin Shea,
Acting Administrator, Animal and Plant Health Inspection Service.

[FR Doc. E7-4238 Filed 3-8-07; 8:45 am]

BILLING CODE 3410-34-P